SECURITIES AND EXCHANGE COMMISSION

Submission for OMB Review; Comment Request

Upon Written Request, Copies Available From: Securities and Exchange Commission, Office of Filings and Information Services, Washington, DC 20549-0213.

Extension:

Rule 30b2-1; SEC File No. 270-213; OMB Control No. 3235-0220.

Notice is hereby given that, pursuant to the Paperwork Reduction Act of 1995 (44 U.S.C. 3501 et seq.), the Securities and Exchange Commission (the “Commission”) has submitted to the Office of Management and Budget a request for extension of the previously approved collection of information discussed below.

Rule 30b2-1 (17 CFR 270.30b2-1) under the Investment Company Act of 1940 (15 U.S.C. 80a) requires the filing of four copies of every periodic or interim report transmitted by or on behalf of any registered investment company to its stockholders.¹ This requirement ensures that the Commission has information in its files to perform its regulatory functions and to apprise investors of the operational and financial condition of a registered investment companies.²

¹ Most filings are made via the Commission's electronic filing system; therefore, paper filings under Rule 30b2-1 occur only in exceptional circumstances. Electronic filing eliminates the need for multiple copies of filings.

² Annual and periodic reports to the Commission become part of its public files and, therefore, are available for use by prospective investors and stockholders.

Registered management investment companies are required to send reports to stockholders at least twice annually. In addition, under rule 30b2-1, each registered investment company is required to file with the Commission Form N-CSR (17 CFR 274.128), certifying the financial statements.³ The annual burden of filing the reports is included in the burden estimate for Form N-CSR; however, we are requesting one burden hour remain in inventory for administrative purposes.

³ Rule 30b2-1(a) [17 CFR 270.30b2-1(a)].

The burden estimate for rule 30b2-1 is made solely for the purposes of the Act and is not derived from a comprehensive or even representative survey or study of the costs of Commission rules and forms.

The collection of information under rule 30b2-1 is mandatory. The information provided by rule 30b2-1 is not kept confidential. An Agency may not conduct or sponsor, and a person is not required to respond to, a collection of information unless it displays a currently valid OMB control number.

Please direct general comments regarding the above information to the following persons: (i) Desk Officer for the Securities and Exchange Commission, Office of Management and Budget, Room 10102, New Executive Office Building, Washington, DC 20503 or send an e-mail to: Shagufta_Ahmed@omb.eop.gov; and (ii) Charles Boucher, Director/CIO, Securities and Exchange Commission, C/O Shirley Martinson, 6432 General Green Way, Alexandria, VA 22312; or send an e-mail to: PRA_Mailbox@sec.gov. Comments must be submitted to OMB within 30 days of this notice.

January 5, 2009.
Florence E. Harmon,
Deputy Secretary.

[FR Doc. E9-160 Filed 1-8-09; 8:45 am]

BILLING CODE 8011-01-P